NUCLEAR REGULATORY COMMISSION

[Docket Nos. 50-275 and 50-323; NRC-2021-0078].

Pacific Gas and Electric Company; Diablo Canyon Nuclear Power Plant, Units 1 and 2

AGENCY: Nuclear Regulatory Commission.

ACTION: Exemption; issuance.

SUMMARY: The U.S. Nuclear Regulatory Commission (NRC) has issued a one-time exemption in response to a February 4, 2021, request from Pacific Gas and Electric Company (the licensee) for an exemption from the operator requalification program requirements at Diablo Canyon Nuclear Power Plant, Units 1 and 2 (Diablo Canyon), to minimize potential operator distractions during plant startup. The exemption affords a one-month extension of the 2-year program requalification and 1-year operator exam requirements, until June 30, 2021. The NRC staff made the required findings that the exemption is authorized by law, will not endanger life or property, and is otherwise in the public interest.

DATES: The exemption was issued on April 1, 2021.

ADDRESSES: Please refer to Docket ID NRC-2021-0078 when contacting the NRC about the availability of information regarding this document. You may obtain publicly available information related to this document using any of the following methods:

• Federal Rulemaking Website: Go to https://www.regulations.gov and search for Docket ID NRC-2021-0078. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Samson Lee, Office of Nuclear Reactor Regulation, U.S. Nuclear Regulatory Commission, Washington, DC 20555-0001, telephone: 301-415-3168, email: Samson.Lee@nrc.gov.

SUPPLEMENTARY INFORMATION:

I. Introduction

The NRC approved the one-time exemption from certain requirements of Part 55 of title 10 of the Code of Federal Regulations (10 CFR), “Operators' Licenses,” for Diablo Canyon. This action was in response to the Pacific Gas and Electric Company's (the licensee's) application dated February 4, 2021, which requested a one-time exemption for Diablo Canyon from the requirements of 10 CFR 55.59, “Requalification,” program to minimize potential operator distractions during plant startup. The exemption affords a one-month extension of the 2-year program requalification and 1-year operator exam requirements, until June 30, 2021. The NRC staff made the findings required in 10 CFR 55.11, “Specific exemptions,” that the exemption is authorized by law, will not endanger life or property, and is otherwise in the public interest.

II. Availability of Documents

The table in this notice provides the facility name, docket number, document description, and ADAMS accession number for the exemption issued. Additional details on the exemption issued, including the exemption request submitted by the licensee and the NRC's decision, are provided in the exemption approval listed in the table in this notice. For additional directions on accessing information in ADAMS, see the ADDRESSES section of this document.

Diablo Canyon Nuclear Power Plant, Units 1 and 2
[Docket Nos. 50-275 and 50-323]
Document description | ADAMS accession No.
Diablo Canyon Power Plant, Units 1 and 2, Request for One-Time Exemption from Select 10 CFR 55.59 Requirements | ML21049A050
Diablo Canyon Nuclear Power Plant, Units 1 and 2—Exemption from Select Requirements of 10 CFR Part 55, “Operators' Licenses” (EPID L-2021-LLE-0007) | ML21067A058

Dated: April 2, 2021.
For the Nuclear Regulatory Commission.
Samson S. Lee,
Senior Project Manager, Plant Licensing Branch IV, Division of Operating Reactor Licensing, Office of Nuclear Reactor Regulation.

[FR Doc. 2021-07130 Filed 4-6-21; 8:45 am]

BILLING CODE 7590-01-P